DEPARTMENT OF COMMERCE

International Trade Administration

[A-570-028]

Antidumping Duty Order on Hydrofluorocarbon Blends From the People's Republic of China: Final Affirmative Determination of Circumvention With Respect to R-410A From the Republic of Türkiye

AGENCY: Enforcement and Compliance, International Trade Administration, Department of Commerce.

SUMMARY: The U.S. Department of Commerce (Commerce) determines that imports of R-410A, completed in the Republic of Türkiye (Türkiye) using the People's Republic of China (China)-origin hydrofluorocarbon (HFC) components, and exported from Türkiye, are circumventing the antidumping duty (AD) order on HFC blends from China.

DATES: Applicable July 11, 2024.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On August 19, 2016, Commerce published in the Federal Register the AD order on HFC blends from China.¹ On July 7, 2023, Commerce initiated a country-wide circumvention inquiry pursuant to section 781(b) of the Tariff Act of 1930, as amended (the Act), and 19 CFR 351.226(d)(1)(ii) to determine whether imports of R-410A, completed in Türkiye using HFC components R-32 (difluoromethane) and R-125 (pentafluoroethane) (collectively, China-origin components) manufactured in China, are circumventing the Order and, accordingly, should be covered by the scope of the Order.² On December 11, 2023, Commerce published in the Federal Register its Preliminary Determination that imports of R-410A completed in Türkiye using China-origin HFC components and subsequently exported from Türkiye to the United States are circumventing the Order.³

¹ See Hydrofluorocarbon Blends from the People's Republic of China: Antidumping Duty Order, 81 FR 55436 (August 19, 2016) (Order).

² See Hydrofluorocarbon Blends from the People's Republic of China: Initiation of Circumvention Inquiries on the Antidumping Duty Order, 88 FR 43275 (July 7, 2023) (Initiation Notice).

³ See Antidumping Duty Order on Hydrofluorocarbon Blends from the People's Republic of China: Preliminary Affirmative Determination of Circumvention with Respect to R-410A from the Republic of Turkey, 88 FR 85871 (December 11, 2023) (Preliminary Determination), and accompanying Preliminary Decision Memorandum (PDM).

For a summary of events that occurred since the Preliminary Determination, as well as a full discussion of the issues raised by parties for consideration in the final determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Circumvention Inquiry of the Antidumping Duty Order on Hydrofluorocarbon Blends from the People's Republic of China with Respect to Imports of R-410A from the Republic of Türkiye,” dated concurrently with, and hereby adopted by, this notice (Issues and Decision Memorandum).

Scope of the Order

The merchandise covered by the Order is certain HFC blends. For a complete description of the scope of the Order, see the Issues and Decision Memorandum.

Merchandise Subject to the Circumvention Inquiry

This circumvention inquiry covers imports of HFC blend R-410A, completed in Türkiye using China-origin HFC components and subsequently exported from Türkiye to the United States (inquiry merchandise).

Methodology

Commerce is conducting this circumvention inquiry in accordance with section 781(b) of the Act, and 19 CFR 351.226. See Preliminary Determination PDM for a full description of the methodology.⁵ We have continued to apply this methodology, without exception, and incorporate by reference this description of the methodology, for our final determination.

⁵ See Preliminary Determination PDM at 3-13.

Analysis of Comments Received

All issues raised in this inquiry are addressed in the Issues and Decision Memorandum. A list of the issues raised is attached to this notice in Appendix I. Based on our analysis of the comments received from the petitioners,⁶ we made the following change to the Preliminary Determination: We determine to apply retroactive suspension of liquidation to respondent Cantas Ic Ve Dis Ticaret Sogutma Sistermleri Sanayi A.S. (Cantas), as well as on a country-wide basis, effective November 4, 2021.

⁶ The petitioners in this inquiry are the American HFC Coalition which consists of its individual members Arkema, Inc., The Chemours Company FC LLC, Honeywell International Inc., and Mexichem Fluor Inc.

Final Circumvention Determination

We determine that imports of R-410A completed in Türkiye by Cantas, using China-origin HFC components that are subsequently exported from Türkiye to the United States, are circumventing the Order. As a result, in accordance with section 781(b) of the Act, we determine that this merchandise should be included within the scope of the Order. For a detailed explanation of our determination with respect to Cantas, see Preliminary Determination PDM, the Issues and Decision Memorandum, and the “Use of Adverse Facts Available” section below.

We also determine that imports of R-410A completed in Türkiye using China-origin HFC components, that are subsequently exported from Türkiye to the United States, would be circumventing the Order whether such imports were by one company, or all companies. Accordingly, we are applying our decision on a country-wide basis. As a result, in accordance with section 781(b) of the Act, we determine that this merchandise should be included within the scope of the Order; see the “Suspension of Liquidation and Cash Deposit Requirements” section, below, for details regarding suspension of liquidation and cash deposit requirements. See the “Certifications” and “Certification Requirements for Türkiye” sections below for details regarding the use of certifications for inquiry merchandise exported from Türkiye.

Use of Adverse Facts Available (AFA)

In this inquiry, Commerce continues to find that necessary information is not available on the record with respect to Cantas within the meaning of section 776(a)(1) of the Act, and that Cantas withheld requested information, failed to provide requested information by the deadline or in the form or manner requested, and significantly impeded the inquiry pursuant to sections 776(a)(1), (A), (B), and (C) of the Act. Moreover, Commerce continues to find that this company failed to cooperate by not acting to the best of its ability to provide the requested information pursuant to section 776(b)(1) of the Act. Consequently, we continue to use adverse inferences with respect to Cantas in selecting from among the facts otherwise available on the record, pursuant to sections 776(a) and (b) of the Act, for the reasons discussed in the Preliminary Determination and the Issues and Decision Memorandum.⁷ Based on AFA, we determine that Cantas exported inquiry merchandise and that U.S. entries of that merchandise are circumventing the Order. Interested parties that wish to have their suspended entries, if any, reviewed should request an administrative review of the relevant suspended entries during the next anniversary month of the Order (i.e., August 2024).⁸ Additionally, we are precluding Cantas from participating in the certification program for exports of R-410A completed in Türkiye and subsequently exported from Türkiye to the United States.

⁷ See Preliminary Determination PDM; see also Issues and Decision Memorandum.

⁸ See 19 CFR 351.213(b).

Final Determination of No Shipments

Based on the information provided by ICE Sogutma Sanayi Ve Ticaret Ltd. (ICE) in this circumvention inquiry, and Commerce's verification of the information provided by ICE,⁹ Commerce continues to find, as it did in the Preliminary Determination, that ICE had no shipments of inquiry merchandise to the United States during the period of inquiry, January 1, 2019 through June 30, 2023.¹⁰

⁹ See Memorandum, “Verification of the Response by ICE Sogutma Sanayi Ve Ticaret Ltd. STI. in the Circumvention Inquiry of the Antidumping Duty Order on Hydrofluorocarbon Blends from the People's Republic of China,” dated May 28, 2024.

¹⁰ See Preliminary Determination PDM at 8-9; see also Issues and Decision Memorandum at Comment 2.

Suspension of Liquidation and Cash Deposit Requirements

Based on the affirmative country-wide determination of circumvention for Türkiye, in accordance with 19 CFR 351.226(l)(3)(iii)(A), we will direct U.S. Customs and Border Protection (CBP) to continue the suspension of liquidation of previously suspended entries and to suspend liquidation and require a cash deposit of estimated duties on unliquidated entries of R-410A from Türkiye that were entered, or withdrawn from warehouse for consumption, prior to the date of publication of the notice of initiation of the inquiry, retroactive to, and including, November 4, 2021,¹¹ which is a departure from our standard practice of applying the date specified in 19 CFR 351.226(l)(3)(ii) (i.e., the date of publication of the initiation notice).¹² CBP shall require cash deposits in accordance with the rate established for the China-wide entity (i.e. 216.37 percent).¹³

¹¹ November 4, 2021, was the date Commerce's circumvention regulations became effective. See Regulations to Improve Administration and Enforcement of Antidumping and Countervailing Duty Laws, 86 FR 52300 (September, 20, 2021) (Circumvention Regulations).

¹² See Issues and Decision Memorandum at Comment 1.

¹³ See Order, 81 FR at 55438.

R-410A produced in Türkiye that is not from China-origin HFC blends are not subject to this inquiry. Therefore, cash deposits are not required for such merchandise under the Order. If an importer imports R-410A from Türkiye and claims that it was not produced using China-origin HFC components, in order to not be subject to the Order cash deposit requirements, the importer and exporter are required to meet the certification and documentation requirements described in the “Certifications” and “Certification Requirements for Türkiye” sections, below.

Commerce has established the following third-country case number for Türkiye in the Automated Commercial Environment (ACE) for such entries: A-489-400-000. For Cantas, which will not be permitted to file a certification in accordance with this determination, Commerce will direct CBP, for all entries of R-410A from Türkiye produced or exported by Cantas, to suspend liquidation and require a cash deposit at the rate established for the China-wide entity, i.e., 216.37 percent, under this third country case number.¹⁴

¹⁴ Cantas is not currently eligible to participate in the certification program as either producer or exporter. In addition, other parties exporting R-410A produced by Cantas will likewise not be eligible to participate in the certification program with regard to such products.

Where no certification is provided for an entry, and the Order potentially applies to that entry, Commerce intends to instruct CBP to suspend the entry and collect cash deposits at the rate established for the China-wide entity, i.e., 216.37 percent, under the third country case number above. These suspension of liquidation instructions will remain in effect until further notice.

Certified Entries

Entries for which the importer and exporter have met the certification requirements described below and in Appendix II to this notice will not be subject to suspension of liquidation, or the cash deposit requirements described above. Failure to comply with the applicable requisite certification requirements may result in the merchandise being subject to duties.

Certifications

To administer the country-wide affirmative determination of circumvention, Commerce established importer and exporter certifications, which allow companies to certify that specific entries of R-410A from Türkiye are not subject to suspension of liquidation or the collection of cash deposits pursuant to this country-wide affirmative determination of circumvention because the merchandise is not made with China-origin components (see Appendix II to this notice).

Because Cantas was non-cooperative, it is not currently eligible to use the certification described above.¹⁵ Commerce may reconsider the eligibility of Cantas in the certification process in a future administrative review. See section, “Opportunity to Request an Administrative Review,” below.

¹⁵ See Preliminary Determinations PDM at the “Use of Facts Available with Adverse Inferences” section; see also, e.g., Anti-circumvention Inquiry of the Antidumping Duty Order on Certain Pasta from Italy: Affirmative Preliminary Determination of Circumvention of the Antidumping Duty Order, 63 FR 18364, 18366 (April 15, 1998), unchanged in Anti-Circumvention Inquiry of the Antidumping Duty Order on Certain Pasta from Italy: Affirmative Final Determination of Circumvention of the Antidumping Duty Order, 63 FR 54672, 54675-76 (October 13, 1998).

Importers and exporters that claim that the entry of R-410A from Türkiye is not subject to suspension of liquidation or the collection of cash deposits because the merchandise is not made with China-origin components must complete the applicable certification and meet the certification and documentation requirements described below, as well as the requirements identified in the applicable certification.

Certification Requirements for Türkiye

Importers are required to complete and maintain the applicable importer certification, and maintain a copy of the applicable exporter certification, and retain all supporting documentation for both certifications. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as brokers, however, are not permitted to certify on behalf of the importer.

Exporters are required to complete and maintain the applicable exporter certification and provide the importer with a copy of that certification and all supporting documentation (e.g., invoice, purchase order, production records, etc.). With the exception of the entries described below, the exporter certification must be completed, signed, and dated by the time of shipment of the relevant entries. The exporter certification should be completed by the party selling the R-410A that was manufactured in Türkiye to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all R-410A from Türkiye that was entered, or withdrawn from warehouse, for consumption during the period July 7, 2023 (the date of initiation of this circumvention inquiry), through the date of publication of the preliminary determination in the Federal Register, where the entry has not been liquidated (and entries for which liquidation has not become final), the relevant certification should already be complete and signed. Because Commerce determined to apply retroactive suspension to November 4, 2021,¹⁶ for R-410A from Türkiye that was entered, or withdrawn from warehouse, for consumption during the period November 4, 2021 through July 6, 2023 (the day before the date of initiation of this circumvention inquiry), where the entry has not been liquidated (and entries for which liquidation has not become final), the relevant certification should be completed and signed as soon as practicable, but not later than 45 days after the date of publication of this final determination in the Federal Register. For such entries, importers and exporters each have the option to complete a blanket certification covering multiple entries, individual certifications for each entry, or a combination thereof. The exporter must provide the importer with a copy of the exporter certification within 45 days of the date of publication of this final determination in the Federal Register.

¹⁶ See Circumvention Regulations, 86 FR at 52347-48.

For unliquidated entries (and entries for which liquidation has not become final) of R-410A from Türkiye that were declared as non-AD type entries (e.g., type 01) and entered, or withdrawn from warehouse, for consumption in the United States during the period November 4, 2021 (the date of the start of retroactive suspension), through the date of publication of the Preliminary Determination in the Federal Register, for which none of the above certifications may be made, importers must file a Post Summary Correction with CBP, in accordance with CBP's regulations, regarding conversion of such entries from non-AD type entries to AD type entries (e.g., type 01 to type 03). Importers should report those AD type entries using the third country case numbers identified in the “Suspension of Liquidation and Cash Deposit Requirements” section, above. The importer should pay cash deposits on those entries consistent with the regulations governing post summary corrections that require payment of additional duties, including AD/CVD duties.

If it is determined that an importer and/or exporter has not met the certification and/or related documentation requirements for certain entries, Commerce intends to instruct CBP to suspend, pursuant to this preliminary affirmative country-wide determination of circumvention and the Order,¹⁷ all unliquidated entries for which these requirements were not met and to require the importer to post applicable cash deposits equal to the rate noted above.

¹⁷ See Order.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next opportunity during the anniversary month of the publication of the Order to submit such requests. The anniversary month for this Order is August.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(b) of the Act and 19 CFR 351.226(g)(2).

Dated: July 5, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Merchandise Subject to the Circumvention Inquiry

V. Period of Circumvention Inquiry

VI. Changes from the Preliminary Determination

VII. Discussion of the Issues

Comment 1: Retroactive Suspension of Liquidation and Cash Deposit Requirement

Comment 2: No Shipment Determination

VIII. Recommendation

Appendix II

Importer Certification

I hereby certify that:

A. My name is {IMPORTING COMPANY OFFICIAL'S NAME} and I am an official of {NAME OF IMPORTING COMPANY}, located at {ADDRESS of IMPORTING COMPANY};

B. I have direct personal knowledge of the facts regarding the importation into the Customs territory of the United States of the hydrofluorocarbon (HFC) blend R-410A produced in Türkiye that entered under the entry number(s) identified below, and which are covered by this certification. “Direct personal knowledge” refers to facts the certifying party is expected to have in its own records. For example, the importer should have direct personal knowledge of the importation of the product, including the exporter's and/or foreign seller's identity and location;

C. If the importer is acting on behalf of the first U.S. customer, include the following sentence as paragraph C of this certification:

The R-410A covered by this certification were imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The R-410A covered by this certification was shipped to {NAME OF PARTY IN THE UNITED STATES TO WHOM THE MERCHANDISE WAS FIRST SHIPPED} located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the HFC components (i.e., R-32 and R-125) used to produce the R-410A);

F. This certification applies to the following entries (repeat this block as many times as necessary):

Entry Summary #:

Entry Summary Line Item #:

Foreign Seller:

Foreign Seller's Address:

Foreign Seller's Invoice #:

Foreign Seller's Invoice Line Item #:

Country of Origin of HFC Components:

Producer:

Producer's Address:

G. The R-410A covered by this certification do not contain HFC components (i.e., R-32 and R-125) produced in the People's Republic of China (China);

H. I understand that {NAME OF IMPORTING COMPANY} is required to maintain a copy of this certification and sufficient documentation supporting this certification (i.e., documents maintained in the normal course of business, or documents obtained by the certifying party, for example, product data sheets, chemical testing specifications, productions records, invoices, etc.) for the later of: (1) the date that is five years after the date of the latest entry covered by the certification or; (2) the date that is three years after the conclusion of any litigation in the United States courts regarding such entries;

I. I understand that {IMPORTING COMPANY} is required to maintain a copy of the exporter's certification (attesting to the production and/or exportation of the imported merchandise identified above), and any supporting documentation provided to the importer by the exporter, until the later of: (1) the date that is five years after the date of the latest entry covered by the certification or; (2) the date that is three years after the conclusion of any litigation in United States courts regarding such entries;

J. I understand that {IMPORTING COMPANY} is required to submit a copy of the importer and exporter certifications as part of the entry summary by uploading them into the document imaging system (DIS) in ACE, and to provide U.S. Customs and Border Protection (CBP) and/or the U.S. Department of Commerce (Commerce) with the importer certification, and any supporting documentation, and a copy of the exporter's certification, and any supporting documentation provided to the importer by the exporter, upon request of either agency;

K. I understand that the claims made herein, and the substantiating documentation, are subject to verification by CBP and/or Commerce;

L. I understand that failure to maintain the required certification and supporting documentation, or failure to substantiate the claims made herein, or not allowing CBP and/or Commerce to verify the claims made herein, may result in a de facto determination that all entries to which this certification applies are within the scope of the antidumping duty (AD) order on R-410A from Türkiye. I understand that such finding will result in:

(i) suspension of liquidation of all unliquidated entries (and entries for which liquidation has not become final) for which these requirements were not met;

(ii) the importer being required to post the cash deposits determined by Commerce; and

(iii) the importer no longer being allowed to participate in the certification process.

M. I understand that agents of the importer, such as brokers, are not permitted to make this certification;

N. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register. If the entry was for consumption during the period November 4, 2021 through July 6, 2023 the relevant certification should be completed and signed as soon as practicable, but not later than 45 days after the date of publication of this final determination in the Federal Register.

O. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF FOREIGN COMPANY THAT MADE THE SALE TO THE UNITED STATES); located at {ADDRESS OF FOREIGN COMPANY THAT MADE THE SALE TO THE UNITED STATES);

B. I have direct personal knowledge of the facts regarding the production and exportation of the hydrofluorocarbon (HFC) blend R-410A for which sales are identified below. “Direct personal knowledge” refers to facts the certifying party is expected to have in its own records. For example, an exporter should have direct personal knowledge of the producer's identity and location.

C. The R-410A, and the individual components thereof, covered this certification were produced by {NAME OF PRODUCING COMPANY}, located at {ADDRESS OF shipped to {NAME OF PARTY IN THE UNITED STATES TO WHOM MERCHANDISE WAS FIRST SHIPPED}, located at {U.S. ADDRESS TO WHICH MERCHANDISE WAS SHIPPED};

D. The R-410A produced in Türkiye do not contain HFC components (i.e., R-32 and R-125) produced in the People's Republic of China (China);

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of HFC Components:

Location (Country) of Producer of HFC Components:

F. The R-410A covered by this certification was shipped to {NAME OF U.S. PARTY TO WHOM MERCHANDISE WAS SHIPPED}, located at {U.S. ADDRESS TO WHICH MERCHANDISE WAS SHIPPED};

G. I understand that {NAME OF FOREIGN COMPANY THAT MADE THE SALE TO THE UNITED STATES required to maintain a copy of this certification and sufficient documentation supporting this certification (i.e., documents maintained in the normal course of business, or documents obtained by the certifying party, for example, product data sheets, chemical testing specifications, productions records, invoices, etc.) for the later of: (1) the date that is five years after the latest date of the entries covered by the certification; or (2) the date that is three years after the conclusion of any litigation in the United States courts regarding such entries;

H. I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency;

I. I understand that the claims made herein, and the substantiating documentation are subject to verification by CBP and/or Commerce;

J. I understand that failure to maintain the required certification and supporting documentation, or failure to substantiate the claims made herein, or not allowing CBP and/or Commerce to verify the claims made herein, may result in a de facto determination that all sales to which this certification applies are within the scope of the antidumping duty order on R-410A from Türkiye. I understand that such a finding will result in:

(i) suspension of all unliquidated entries (and entries for which liquidation has not become final) for which these requirements were not met;

(ii) the importer being required to post the cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is more than 14 days after the date of publication of the notice of Commerce's preliminary determination of circumvention in the Federal Register. If the shipment date is on or before the 14th day after the date of publication of the notice of Commerce's preliminary determination of circumvention in the Federal Register, this certification was completed and signed, and a copy of the certification was provided to the importer, by no later than 45 days after publication of the notice of Commerce's preliminary determination of circumvention in the Federal Register. If the entry was for consumption during the period November 4, 2021 through July 6, 2023 the relevant certification should be completed and signed as soon as practicable, but not later than 45 days after the date of publication of this final determination in the Federal Register.

M. I am aware that U.S. law (including, but not limited to, 18 U.S.C. 1001) imposes criminal sanctions on individuals who knowingly and willfully make material false statements to the U.S. government.

Signature

{NAME OF COMPANY OFFICIAL}

{TITLE OF COMPANY OFFICIAL }

{DATE}

[FR Doc. 2024-15263 Filed 7-10-24; 8:45 am]

BILLING CODE 3510-DS-P